DEPARTMENT OF JUSTICE

Antitrust Division

Notice Pursuant to the National Cooperative Research and Production Act of 1993—Petroleum Environmental Research Forum Project No. 2011-01, Ultra Low Nutrient Control in Wastewater Effluents

Notice is hereby given that, on April 9, 2012, pursuant to Section 6(a) of the National Cooperative Research and Production Act of 1993, 15 U.S.C. 4301 et seq. (“the Act”), Petroleum Environmental Research Forum (PERF) Project No. 2011-01, Ultra Low Nutrient Control in Wastewater Effluents (“PERF Project No. 2011-01”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research and Engineering Company, Fairfax, VA; BP Products North America Inc., Naperville, IL; Chevron U.S.A. Inc., acting through its Chevron Energy Technology Company Division, San Ramon, CA; ConocoPhillips Company, Bartlesville, OK; Shell Global Solutions (US) Inc., Houston, TX; and Total S.A., Paris, FRANCE. The general area of PERF Project No. 2011-01's planned activity is, through cooperative research efforts, to explore technical options to achieve ultra-low nutrient discharge requirements that are developing in some areas by sharing company experience on existing methodologies for controlling/removing nutrients from wastewater, and engaging a third party consultant to summarize current state of the technologies and understand their feasibility and limitations.

Patricia A. Brink,
Director of Civil Enforcement, Antitrust Division.

[FR Doc. 2012-10803 Filed 5-3-12; 8:45 am]

BILLING CODE P